DEPARTMENT OF ENERGY

Federal Energy Regulatory Commission

Combined Notice of Filings #1

Take notice that the Commission received the following exempt wholesale generator filings:

Docket Numbers: EG23-150-000.

Applicants: Solar Partners XI, LLC.

Description: Solar Partners XI, LLC submits Notice of Self-Certification of Exempt Wholesale Generator Status.

Filed Date: 5/10/23.

Accession Number: 20230510-5013.

Comment Date: 5 p.m. ET 5/31/23.

Docket Numbers: EG23-151-000.

Applicants: Horizon Solar, LLC.

Description: Horizon Solar, LLC submits Notice of Self-Certification of Exempt Wholesale Generator Status.

Filed Date: 5/10/23.

Accession Number: 20230510-5138.

Comment Date: 5 p.m. ET 5/31/23.

Take notice that the Commission received the following electric rate filings:

Docket Numbers: ER21-630-003.

Applicants: 325MK 8ME LLC.

Description: Notice of Non-Material Change in Status of 325MK 8ME LLC.

Filed Date: 5/10/23.

Accession Number: 20230510-5060.

Comment Date: 5 p.m. ET 5/31/23.

Docket Numbers: ER23-1167-002.

Applicants: PJM Interconnection, L.L.C.

Description: Tariff Amendment: Amendment to Original NSA, SA No. 6804; Queue No. AC2-090 to be effective 4/25/2023.

Filed Date: 5/10/23.

Accession Number: 20230510-5066.

Comment Date: 5 p.m. ET 5/31/23.

Docket Numbers: ER23-1411-000.

Applicants: Newport Solar LLC.

Description: Supplement to March 17, 2023, Newport Solar, LLC Application of Newport Solar, LLC for market-based rate authority.

Filed Date: 5/8/23.

Accession Number: 20230508-5189.

Comment Date: 5 p.m. ET 5/15/23.

Docket Numbers: ER23-1419-001.

Applicants: PJM Interconnection, L.L.C.

Description: Tariff Amendment: Amendment to Original NSA, SA No. 6833; Queue No. AE2-148 to be effective 5/17/2023.

Filed Date: 5/10/23.

Accession Number: 20230510-5095.

Comment Date: 5 p.m. ET 5/31/23.

Docket Numbers: ER23-1457-001.

Applicants: PJM Interconnection, L.L.C.

Description: Tariff Amendment: Amendment to Original NSA, SA No. 6846; Queue Nos. P22, O38 to be effective 5/24/2023.

Filed Date: 5/10/23.

Accession Number: 20230510-5070.

Comment Date: 5 p.m. ET 5/31/23.

Docket Numbers: ER23-1482-001.

Applicants: Midcontinent Independent System Operator, Inc.

Description: Tariff Amendment: 2023-05-10_SA 3370 ATC-Red Barn Energy Sub 2nd Rev GIA (J855) to be effective 3/20/2023.

Filed Date: 5/10/23.

Accession Number: 20230510-5114.

Comment Date: 5 p.m. ET 5/31/23.

Docket Numbers: ER23-1852-000.

Applicants: Buchanan Generation, LLC.

Description: Request for Limited Waiver and Request for Shortened Comment Period and Expedited Action of Buchanan Generation, LLC.

Filed Date: 5/8/23.

Accession Number: 20230508-5182.

Comment Date: 5 p.m. ET 5/15/23.

Docket Numbers: ER23-1859-000.

Applicants: Tri-State Generation and Transmission Association, Inc.

Description: § 205(d) Rate Filing: Amendment to Service Agreement FERC No. 864 to be effective 4/10/2023.

Filed Date: 5/10/23.

Accession Number: 20230510-5067.

Comment Date: 5 p.m. ET 5/31/23.

Docket Numbers: ER23-1860-000.

Applicants: Alabama Power Company, Georgia Power Company, Mississippi Power Company.

Description: Tariff Amendment: Alabama Power Company submits tariff filing per 35.15: CPV Five Bridges Solar LGIA Termination Filing to be effective 5/10/2023.

Filed Date: 5/10/23.

Accession Number: 20230510-5081.

Comment Date: 5 p.m. ET 5/31/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2023.
Debbie-Anne A. Reese,
Deputy Secretary.

[FR Doc. 2023-10396 Filed 5-15-23; 8:45 am]

BILLING CODE 6717-01-P